DEPARTMENT OF TRANSPORTATION

Surface Transportation Board

[STB Finance Docket No. 34431]

Allegheny Valley Railroad Company-Lease, Operation and Trackage Rights Exemption—Lines of CSX Transportation, Inc.

Allegheny Valley Railroad Company (AVR) a Class III rail carrier, has filed a verified notice of exemption under 49 CFR 1150.41 to lease and operate certain rail line segments and acquire related trackage rights, pursuant to an agreement with CSX Transportation, Inc. (CSXT), as follows: (1) Approximately 33.1 miles of CSXT's W&P Subdivision from milepost BO-5.0 at Glenwood Junction to milepost BO-38.1 at Washington, in Allegheny and Washington Counties, PA; and (2) approximately 13.2 miles of CSXT's P&W Subdivision in Allegheny County—(a) from milepost BG-1.0 at Field to milepost BG-10.4 at Glenshaw, (b) the No. 2 Main from milepost BF-322.8 at Glenwood Junction to approximately milepost BF-326 at East Schenley, (c) a portion of the Glenwood Yard to be agreed upon jointly, and (d) from milepost 0.75 ¹ of the River Branch near 33rd Street in Pittsburgh, extending southwesterly to its end at milepost 1.35. AVR will also acquire approximately 1.9 miles of local trackage rights over CSXT's No. 1 Main from East Schenley to Field to provide freight service to customers on the line and connect the leased segment that ends at East Schenley and the segment that begins at Field.

¹ AVR currently leases and operates a portion of the River Branch extending from milepost 0.0 near 43rd Street to milepost 0.75 near 33rd Street. See Allegheny Valley Railroad Company-Lease and Operation Exemption-Line of CSX Transportation, Inc., STB Finance Docket No. 34095 (STB served Sept. 27, 2001).

AVR certifies that its projected revenues as a result of this transaction will not result in the creation of a Class II or Class I rail carrier.

Consummation of the transaction was scheduled to take place on or soon after November 7, 2003, the effective date of the exemption.

The notice is filed under 49 CFR 1150.41. If the notice contains false or misleading information, the exemption is void ab initio. Petitions to revoke the exemption under 49 U.S.C. 10502(d) may be filed at any time. The filing of a petition to revoke will not automatically stay the transaction.

An original and 10 copies of all pleadings, referring to STB Finance Docket No. 34431, must be filed with the Surface Transportation Board, 1925 K Street, NW., Washington, DC 20423-0001. In addition, a copy of each pleading must be served on Keith G. O'Brien, 1707 L Street, NW., Suite 570, Washington, DC 20036.

Board decisions and notices are available on our Web site at http://www.stb.dot.gov.

Decided: November 19, 2003.
By the Board, David M. Konschnik, Director, Office of Proceedings.
Vernon A. Williams,
Secretary.

[FR Doc. 03-29407 Filed 11-25-03; 8:45 am]

BILLING CODE 4915-00-P